Proclamation 10472 of October 7, 2022

Columbus Day, 2022

By the President of the United States of America

A Proclamation

In 1492, Christopher Columbus sailed from the Spanish port of Palos de la Frontera on behalf of Queen Isabella I and King Ferdinand II, but his roots trace back to Genoa, Italy. The story of his journey remains a source of pride for many Italian Americans whose families also crossed the Atlantic. His voyage inspired many others to follow and ultimately contributed to the founding of America, which has been a beacon for immigrants across the world.

Many of these immigrants were Italian, and for generations, Italian immigrants have harnessed the courage to leave so much behind, driven by their faith in the American dream—to build a new life of hope and possibility in the United States. Today, Italian Americans are leaders in all fields, including government, health, business, innovation, and culture.

Things have not always been easy; prejudice and violence often stalled the promise of equal opportunity. In fact, Columbus Day was created by President Harrison in 1892 in response to the anti-Italian motivated lynching of 11 Italian Americans in New Orleans in 1891. During World War II, Italian Americans were even targeted as enemy aliens. But the hard work, dedication to community, and leadership of Italian Americans in every industry make our country stronger, more prosperous, and more vibrant. The Italian American community is also a cornerstone of our Nation's close and enduring relationship with Italy—a vital NATO Ally and European Union partner. Today, the partnership between Italy and the United States is at the heart of our efforts to tackle the most pressing global challenges of our time, including supporting Ukraine as it defends its freedom and democracy.

In commemoration of Christopher Columbus's historic voyage 530 years ago, the Congress, by joint resolution of April 30, 1934, and modified in 1968 (36 U.S.C. 107), as amended, has requested the President proclaim the second Monday of October of each year as “Columbus Day.”

NOW, THEREFORE, I, JOSEPH R. BIDEN JR., President of the United States of America, do hereby proclaim October 10, 2022, as Columbus Day. I direct that the flag of the United States be displayed on all public buildings on the appointed day in honor of our diverse history and all who have contributed to shaping this Nation.

IN WITNESS WHEREOF, I have hereunto set my hand this seventh day of October, in the year of our Lord two thousand twenty-two, and of the Independence of the United States of America the two hundred and forty-seventh.

[FR Doc. 2022-22408

Filed 10-12-22; 8:45 am]

Billing code 3395-F3-P